FARM CREDIT ADMINISTRATION

12 CFR Parts 611, 612, 619, 620, and 630

RIN 3052-AC41

Compensation, Retirement Programs, and Related Benefits; Effective Date

AGENCY: Farm Credit Administration.

ACTION: Notice of effective date.

SUMMARY: The Farm Credit Administration (FCA or Agency), through the FCA Board (Board), issued a final rule amending its regulations for Farm Credit System banks and associations to require disclosure of pension benefit and supplemental retirement plans and a discussion of the link between senior officer compensation and performance. In accordance with the law, the effective date of the final rule is 30 days from the date of publication in the Federal Register during which either or both Houses of Congress are in session.

DATES: Effective Date—Under the authority of 12 U.S.C. 2252, the regulation amending 12 CFR parts 611, 612, 619, 620 and 630 published on October 3, 2012 (77 FR 60582) is effective December 17, 2012.

Compliance Date—All provisions of this rule require compliance 30 days after the effective date, except advisory votes on compensation increases under § 611.410(b). Advisory votes on compensation increases of 15 percent or more are not required until 2015, using a baseline year of 2013.

FOR FURTHER INFORMATION CONTACT:

Deborah Wilson, Senior Accountant, Office of Regulatory Policy, Farm Credit Administration, McLean, Virginia 22102-5090, (703) 883-4498, TTY (703) 883-4434, or

Laura McFarland, Senior Counsel, Office of General Counsel, Farm Credit Administration, McLean, Virginia 22102-5090, (703) 883-4020, TTY (703) 883-4020.

SUPPLEMENTARY INFORMATION: The Farm Credit Administration (FCA or Agency), through the FCA Board (Board), issued a final rule under parts 611, 612, 619, 620 and 630 on October 3, 2012 (77 FR 60582) amending our regulations for Farm Credit System banks and associations to require disclosure of pension benefit and supplemental retirement plans and a discussion of the link between senior officer compensation and performance. In accordance with 12 U.S.C. 2252, the effective date of the final rule is 30 days from the date of publication in the Federal Register during which either or both Houses of Congress are in session. Based on the records of the sessions of Congress, the effective date of the regulations is December 17, 2012.

(12 U.S.C. 2252(a)(9) and (10))

Dated: December 20, 2012.
Dale L. Aultman,
Secretary, Farm Credit Administration Board.

[FR Doc. 2012-31100 Filed 12-26-12; 8:45 am]

BILLING CODE 6705-01-P